DEPARTMENT OF HEALTH AND HUMAN SERVICES

Food and Drug Administration

[Docket No. FDA-2008-N-0158] (formerly Docket No. FDA-2008-N-0131)

Frozen Concentrate for Lemonade Deviating From Identity Standard; Temporary Permit for Market Testing; Correction

AGENCY: Food and Drug Administration, HHS.

ACTION: Notice; correction.

SUMMARY: The Food and Drug Administration is correcting a notice that appeared in the Federal Register of February 29, 2008 (73 FR 11095). The document announced that a temporary permit has been issued to Florida's Natural Growers, to market test a product designated as “Frozen Concentrate for Lemonade 3+1 Ratio.” The document was published with an incorrect value for the Brix (measure of concentration of sugars in juice). This document corrects the error.

FOR FURTHER INFORMATION CONTACT: Loretta A. Carey, Center for Food Safety and Applied Nutrition (HFS-820), Food and Drug Administration, 5100 Paint Branch Pkwy., College Park, MD 20740, 301-436-2371.

SUPPLEMENTARY INFORMATION: In FR Doc. E8-3912, appearing on page 11095 in the Federal Register of Friday, February 29, 2008, the following correction is made:

1. On page 11095, in the second column, in the SUPPLEMENTARY INFORMATION section, line twenty-two, the number “56°” is corrected to read “37.6°”.

Dated: March 18, 2008.
Barbara Schneeman,
Director, Office of Nutritional Products, Labeling and Dietary Supplements, Center for Food Safety and Applied Nutrition.

[FR Doc. E8-6056 Filed 3-25-08; 8:45 am]

BILLING CODE 4160-01-S